DEPARTMENT OF DEFENSE

Office of the Secretary

Renewal of the Joint Advisory Committee on Nuclear Weapons Surety

ACTION: Notice.

SUMMARY: The Joint Advisory Committee on Nuclear Weapons Surety (JACNWS) has been renewed in consonance with the public interest, and in accordance with the provisions of Public Law 92-463, the “Federal Advisory Committee Act.”

The JACNWS provides advice and recommendations to the Secretary of Defense and the Secretary of Energy on nuclear weapons systems surety matters. The Committee undertakes studies and prepares reports on national policies and procedures to ensure the safe handling, stockpiling, maintenance, disposition and risk reduction of nuclear weapons.

The Committee will continue to be composed of four to seven members, both government and non-government individuals, who are acclaimed experts in nuclear weapons surety measures. Efforts will be made to ensure that there is a fairly balanced membership in terms of the functions to be performed and the interest groups represented.

FOR FURTHER INFORMATION CONTACT: Please contact Mr. Bill Daitch, Defense Threat Reduction Agency, telephone: 703-325-0581.

Patricia L. Toppings,
Alternate OSD Federal Register Liaison Officer, Department of Defense.

[FR Doc. 00-24331 Filed 9-21-00; 8:45 am]

BILLING CODE 5001-10-M